NATIONAL SCIENCE FOUNDATION

Special Emphasis Panel in Information and Intelligent Systems; Notice of Meeting

In accordance with the Federal Advisory Committee Act (Pub. L. 92-463, as amended), the National Science Foundation announces the following meeting:

Name: Special Emphasis Panel in Information and Intelligent Systems (#1200).

Dates of meetings | Locations
April 10-11, 2000 | National Science Foundation, Arlington, VA.
April 13-14, 2000 | Hyatt Regency, San Francisco, CA.
April 13-14, 2000 | National Science Foundation, Arlington, VA.
May 1-2, 2000 | National Science Foundation, Arlington, VA.
May 4-5, 2000 | Hyatt Regency, San Francisco, CA.
May 4-5, 2000 | National Science Foundation, Arlington, VA.
May 8-9, 2000 | National Science Foundation, Arlington, VA.
May 11-12, 2000 | Hyatt Regency, San Francisco, CA.
May 11-12, 2000 | National Science Foundation, Arlington, VA.

Time: Meetings will be held 8:00 a.m.-5:00 p.m.

Type of Meeting: Closed.

Contact Persons: Michael Lesk and Richard Hilderbrandt, Division of Information and Intelligent Systems, Room 1115, National Science Foundation, 4201 Wilson Blvd., Arlington, VA 22230. Telephone: (703) 306-1930.

Minutes: May be obtained from the contact person listed above.

Purpose of Meeting: To provide advice and recommendations concerning proposals submitted to NSF for financial support.

Agenda: To review and evaluate Information Technology Research (ITR) proposals submitted to the Information Technology Research Program as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: March 6, 2000.
Karen J. York,
Committee Management Officer.

[FR Doc. 00-5868 Filed 3-9-00; 8:45 am]

BILLING CODE 7555-01-M